DEPARTMENT OF ENERGY

Federal Energy Regulatory Commission

[Docket No. IC23-9-000]

Commission Information Collection Activities (FERC-600); Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collection, FERC-600 (Rules of Practice and Procedure: Complaint Procedures), which will be submitted to the Office of Management and Budget (OMB) for a review of the information collection requirements.

DATES: Comments on the collection of information are due August 16, 2023.

ADDRESSES: Send written comments on FERC-600 to OMB through www.reginfo.gov/public/do/PRAMain, Attention: Federal Energy Regulatory Commission Desk Officer. Please identify the OMB control number (1902-0180) in the subject line. Your comments should be sent within 30 days of publication of this notice in the Federal Register.

Please submit copies of your comments (identified by Docket No. IC23-9-000) to the Commission as noted below. Electronic filing through https://www.ferc.gov is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (including courier) delivery: Deliver to: Federal Energy Regulatory Commission, 12225 Wilkins Avenue, Rockville, MD 20852.

Instructions:

OMB submissions must be formatted and filed in accordance with submission guidelines at www.reginfo.gov/public/do/PRAMain; Using the search function under the “Currently Under Review field,” select Federal Energy Regulatory Commission; click “submit” and select “comment” to the right of the subject collection.

FERC submissions must be formatted and filed in accordance with submission guidelines at: https://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov.

FOR FURTHER INFORMATION CONTACT: Ellen Brown may be reached by email at DataClearance@FERC.gov and telephone at (202) 502-8663.

SUPPLEMENTARY INFORMATION: In accordance with the Paperwork Reduction Act (44 U.S.C. 3501 through 3521), the Commission published a notice on March 22, 2023 in the Federal Register regarding FERC-600 (88 FR 17206). The notice sought public comment for a period of 60 days as to the information collection's necessity; the accuracy of the estimated burdens; the quality, utility, and clarity of the information to be collected; and how to minimize the burden of the information collection on those who are to respond. The comment period expired on May 22, 2023. No comments were submitted.

Title: FERC-600, Rules of Practice and Procedure: Complaint Procedures.

OMB Control No.: 1902-0180.

Type of Request: Three-year extension without change of the current information collection.

Abstract: In accordance with 18 CFR 385.206, any person may file a complaint seeking Commission action against any other person alleged to be in violation of “any statute, rule, order, or other law administered by the Commission, or for any other alleged wrong over which the Commission may have jurisdiction.” Paragraph (b) of section 385.206 states that a complaint must: (1) Clearly identify the action or inaction which is alleged to violate applicable statutory standards or regulatory requirements; (2) Explain how the action or inaction violates applicable statutory standards or regulatory requirements; (3) Set forth the business, commercial, economic or other issues presented by the action or inaction as such relate to or affect the complainant; (4) Make a good faith effort to quantify the financial impact or burden (if any) created for the complainant as a result of the action or inaction; (5) Indicate the practical, operational, or other nonfinancial impacts imposed as a result of the action or inaction, including, where applicable, the environmental, safety or reliability impacts of the action or inaction; (6) State whether the issues presented are pending in an existing Commission proceeding or a proceeding in any other forum in which the complainant is a party, and if so, provide an explanation why timely resolution cannot be achieved in that forum; (7) State the specific relief or remedy requested, including any request for stay or extension of time, and the basis for that relief; (8) Include all documents that support the facts in the complaint in possession of, or otherwise attainable by, the complainant, including, but not limited to, contracts and affidavits; (9) State whether the Enforcement Hotline, Dispute Resolution Service, tariff based dispute resolution mechanisms, or other informal dispute resolution procedures were used, or why these procedures were not used; (10) State whether the complainant believes that alternative dispute resolution (ADR) under the Commission's supervision could successfully resolve the complaint; (11) State what types of ADR procedures could be used; and (12) State any process that has been agreed on for resolving the complaint; (13) Include a form of notice of the complaint on electronic media suitable for publication in the Federal Register in accordance with the specifications in 18 CFR 385.203(d); and (14) Explain with respect to requests for Fast Track processing pursuant to 18 CFR 385.206(h), why the standard processes will not be adequate for expeditiously resolving the complaint.

Any person filing a complaint must serve a copy of the complaint on the respondent, affected regulatory agencies, and others the complainant reasonably knows may be expected to be affected by the complaint. Service must be simultaneous with filing at the Commission for respondents. Simultaneous service may be accomplished by electronic mail in accordance with 18 CFR 385.2010(f)(3), facsimile, express delivery, or messenger.

Regulations at 18 CFR part 343 provide for additional procedures and information collection requirements for protests and complaints ¹ that pertain to most carriers (i.e., oil pipelines) under the Interstate Commerce Act.² Two sections of Part 343 (i.e., sections 343.2(c)(1) and 343.2(c)(2)) apply to protests and complaints against pipelines' increased proposed or established rates. Both of these sections provide that protests and complaints must comply with 18 CFR 385.206, and require protestors and complainants to allege reasonable grounds for asserting that an increased rate is so substantially in excess of the pipeline's actual cost increases that it is unjust and unreasonable. Alternatively, one of the regulations focused on rates (i.e., 18 CFR 343.2(c)(1)) authorize protests and complaints to allege that the challenged rate exceeds an applicable ceiling level.

¹ Protests apply to rates proposed by oil pipelines. Complaints apply to established rates of oil pipelines.

² The regulations at Part 343 do not apply to the Trans-Alaska Pipeline or to any pipeline delivering oil directly or indirectly to the Trans-Alaska Pipeline. See 18 CFR 342.0(b).

A third section of Part 343 (i.e., section 343.2(c)(3)) addresses complaints against a pipeline's operations or practices, other than rates. Complaints under this regulation must allege reasonable grounds for asserting that the operations or practices violate a provision of the Interstate Commerce Act or violate a provision of the Commission's regulations. Like the other two sections of Part 343 discussed above, this section requires complaints to comply with 18 CFR 385.206.

Type of Respondents: Any person that files a complaint for Commission review and resolution.

Estimate of Annual Burden: The Commission estimates the annual public reporting burden ³ and cost ⁴ for the information collection as shown in the following table.

³ Burden is defined as the total time, effort, or financial resources expended by persons to generate, maintain, retain, or disclose or provide information to or for a Federal agency. For further explanation of what is included in the information collection burden, refer to 5 CFR 1320.3.

⁴ The Commission staff expects that the average respondent for this collection is similarly situated to the Commission, in terms of salary plus benefits. Based upon the Commission's 2022 average cost for salary plus benefits, the average hourly cost is $91/hour.

FERC-600—Estimated Annual Burdens
A. Number of respondents | B. Annual number of responses | C. Total number of responses | D. Average burden hour and cost per response | E. Total annual burden hour and cost | F. Cost per respondent
|  |  | (column A × column B) | (column C × column D) | (column E ÷ column A)
62 | 1 | 62 | 160 hrs.; $14,560 | 9,920 hrs.; $902,720 | $14,560

Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: July 11, 2023.
Kimberly D. Bose,
Secretary.

[FR Doc. 2023-15082 Filed 7-14-23; 8:45 am]

BILLING CODE 6717-01-P